DEPARTMENT OF THE INTERIOR

National Park Service

[NPS-IMR-BITH-21364; PS.SIMLA0001.00.1]

Minor Boundary Revision at Big Thicket National Preserve

AGENCY: National Park Service, Interior.

ACTION: Notification of boundary revision.

SUMMARY: The boundary of Big Thicket National Preserve is modified to include ten tracts totaling 822.48 acres of land. These lands are located in Hardin County, Liberty County, Orange County and Tyler County, Texas, immediately adjacent to the boundary of the preserve. Subsequent to the publication of this notice, the United States will acquire fee title to those tracts of land by donation from several nonprofit conservation organizations and an individual donor.

DATES: The effective date of this boundary revision is October 18, 2016.

ADDRESSES: The map depicting this boundary revision is available for inspection at the following locations: National Park Service, Land Resources Program Center, Intermountain Region, 12795 West Alameda Parkway, Denver, Colorado 80228 and National Park Service, Department of the Interior, 1849 C Street NW., Washington, DC 20240.

FOR FURTHER INFORMATION CONTACT: Chief Realty Officer Steve Muyskens, National Park Service, Land Resources Program Center, Intermountain Region, 12795 West Alameda Parkway, Denver, Colorado 80228, telephone (303) 969-2610.

SUPPLEMENTARY INFORMATION: Notice is hereby given that, pursuant to section 1 of the Act of October 11, 1974 (Pub. L. 93-439, 88 Stat. 1254), codified as amended at 16 U.S.C. 698, the boundary of Big Thicket National Preserve is modified to include ten tracts of lands listed as follows: Tract 127-10 (1.72 acres); Tract 134-07 (114.45 acres); Tract 172-10 (18 acres); Tract 215-04 (.57-acre); Tract 219-17 (11.60 acres); Tract 219-18 (360.97 acres); Tract 219-19 (29.03 acres); Tract 222-08 (1 acre); Tract 223-14 (118.65 acres) and Tract 229-06 (166.49 acres) for a total of 822.48 acres. The boundary revision is depicted on Map No. 175/120,858 dated April 18, 2016.

16 U.S.C. 698 provides that, after notifying the House Committee on Natural Resources and the Senate Committee on Energy and Natural Resources, the Secretary of the Interior is authorized to make this boundary revision upon publication of notice in the Federal Register. The Committees have been notified of this boundary revision.

Dated: October 7, 2016.
Sue Masica,
Regional Director, Intermountain Region.

[FR Doc. 2016-25179 Filed 10-17-16; 8:45 am]

BILLING CODE 4312-CB-P